DEPARTMENT OF TRANSPORTATION

Federal Aviation Administration

Record of Decision for Environmental Impact Statement: New Bedford Regional Airport, New Bedford, MA

AGENCY: Federal Aviation Administration (FAA), DOT.

ACTION: Notice of availability.

SUMMARY: The FAA is issuing this notice to advise the public that a Record of Decision (ROD), resulting from an Environmental Impact Statement (EIS) has been prepared for a New Bedford Regional Airport, New Bedford, Massachusetts.

FOR FURTHER INFORMATION CONTACT: Richard Doucette, Environmental Program Manager, Federal Aviation Administration New England, 12 New England Executive Park, Burlington, MA. Telephone (781) 238-7613.

SUPPLEMENTARY INFORMATION: The FAA is making available a ROD regarding construction of Runway Safety Areas and other airfield improvements at New Bedford. The ROD documents the final Agency decisions regarding the proposed projects as described and analyzed in the EIS. The ROD is available for review during normal business hours at the following locations: FAA New England Region, Airports Division, 16 New England Executive Park, Burlington, MA. Telephone (781) 238-7613 and New Bedford Regional Airport, 1569 Airport Rd., New Bedford, Massachusetts. Telephone (508) 991-6161.

Issued on: April 27, 2010.
Bryon H. Rakoff,
Assistant Division Manager, Airports Division.

[FR Doc. 2010-11505 Filed 5-12-10; 8:45 am]

BILLING CODE 4910-13-P